DEPARTMENT OF TRANSPORTATION

Federal Highway Administration

Notice To Rescind a Notice of Intent To Prepare an Environmental Impact Statement: King County, WA

AGENCY: Federal Highway Administration (FHWA), DOT.

ACTION: Notice to rescind a Notice of Intent to prepare an Environmental Impact Statement.

SUMMARY: The FHWA is issuing this notice to advise the public that we are rescinding the Notice of Intent (NOI) to prepare an Environmental Impact Statement (EIS) for improvements that were proposed for Forest Road 56 in King County, Washington northeast of the city of North Bend. The NOI was published in the Federal Register on April 27, 2001. This rescission is based on a reduction in the scope of the project.

FOR FURTHER INFORMATION CONTACT: Michael Traffalis, Project Manager, FHWA, Western Federal Lands Highway Division, 610 East Fifth Street, Vancouver, Washington 98611, Telephone: (360) 619-7700.

SUPPLEMENTARY INFORMATION: The FHWA, in cooperation with the United States Forest Service and King County, is rescinding the NOI to prepare an EIS for a project that had been proposed to improve Forest Road 56, Middle Fork Snoqualmie River Road, in King County, Washington. The NOI is being rescinded because the scope of the project has been reduced from the 2001 proposal to examine new alignments and wider road widths up to 32 feet. Due to potential environmental impacts associated with new alignments and wider widths, as well as funding constraints, the currently proposed project would reconstruct the road and associated features along its current alignment to a consistent width of 20 feet. The currently proposed project extends approximately 9.7 miles from milepost 2.7, just past the couplet portion of the route, to the Middle Fork Campground at approximately milepost 12.4, within the Mt. Baker-Snoqualmie National Forest.

Given the reduction in scope and the associated potential impacts of the proposed action, FHWA intends to prepare an Environmental Assessment to determine if the project has the potential to significantly affect the quality of the human environment.

Authority: 23 U.S.C. 315; 49 CFR 1.48.

Dated: February 17, 2011.
Clara H. Conner,
Division Engineer, Western Federal Lands Highway Division, FHWA.

[FR Doc. 2011-4303 Filed 2-25-11; 8:45 am]

BILLING CODE 4910-22-P